DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2000, there were eight applications approved. This notice also includes information on one application, approved in August 2000, inadvertently left off the August 2000 notice as well as one application approved in September 2000 and inadvertently left off the September 2000 notice. Additionally, 11 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of El Paso, Texas.

Application Number: 00-02-U-00-ELP.

Application Type: Use PFC revenue.

PFC Level: $3.00.

Total PFC Revenue to be Used in This Decision: $5,502,927.

Charge Effective Date: January 1, 1997.

Estimated Charge Expiration Date: October 1, 2005.

Class of Air Carriers Not Required to Collect PFC'S: No change from previous decision.

Brief Description of Project Approved for Use: Extend runway 4/22 1,000 feet.

Decision Date: August 14, 2000.

FOR FURTHER INFORMATION CONTACT:

G. Thomas Wade, Southwest Region Airports Division, (817) 222-5613.

Public Agency: Golden Triangle Regional Airport Authority, Columbus, Mississippi.

Application Number: 00-02-C-00-GTR.

Application Type: Impose and use a PFC.

PFC Level: $3.00.

Total PFC Revenue to be Approved Used in This Decision: $223,321.

Earliest Charge Effective Date: September 1, 2006.

Estimated Charge Expiration Date: June 1, 2008.

Class of Air Carriers Not Required to Collect PFC'S: None.

Brief Description of Projects Approved for Collection and Use:

Rehabilitation of terminal entrance road.

Terminal building modifications.

Rehabilitation of general aviation overflow apron.

General aviation apron sealcoast.

Security gates replacement.

Taxiway porous friction course and striping.

Aircraft rescue and firefighting vehicle/firefighting equipment.

Renovation of crash, fire and rescue building.

Reconstruction runway lighting system.

Brief Description of Project Disapproved: Disadvantaged business enterprise program.

Determination: Disapproved. This project is not identified as planning or development eligible under the Airport Improvement Program (AIP). Rather, this project is an administrative requirement for obtaining an AIP grant. Therefore, the FAA has determined that the project does not meet the FCC project eligibility requirements, § 158.15.

Decision Date: September 27, 2000.

FOR FURTHER INFORMATION CONTACT: David Shumate, Jackson Airports District Office, (601) 664-9882.

Public Agency: Kalamazoo County, Kalamazoo, Michigan.

Application Number: 00-03-C-00-AZO.

Application Type: Impose and use a PFC.

PFC Level: $3.00.

Total PFC Revenue to be Approved Used in This Decision: $3,298,376.

Earliest Charge Effective Date: January 1, 2001.

Estimated Charge Expiration Date: December 1, 2003.

Class of Air Carriers Not Required to Collect PFC'S: Non-scheduled Part 135 air taxi/commercial operators.

Determination: Approved. Based on information contained in the public agency's application, the FAA has determined that the approved class accounts for less than 1 percent of the total annual enplanements at Kalamazoo/Battle Creek International Airport.

Brief Description of Projects Approved for Collection and Use:

Terminal area study.

Acquire land—parcel 56.

Acquire land—parcel 55.

Rehabilitate taxiway B (north).

PFC consultant fees.

Replace airport wind cone.

Install precision approach path indicator on runway 35.

Commuter walkways.

Rehabilitate runway 17/35.

Rehabilitate runway 9/27.

Purchase runway snow sweeper.

Purchase runway snow blower.

Conduct airfield electrical study.

Rehabilitate runway 5/23.

Purchase runway snow plow.

Decision Date: October 3, 2000.

FOR FURTHER INFORMATION CONTACT: Gary J. Migut, Detroit Airports District Office, (734) 487-7278.

Public Agency: County of Okaloosa, Crestview, Florida.

Application Number: 00-01-C-00-VPS.

Application Type: Impose and use a PFC.

PFC Level: $3.00.

Total PFC Revenue Approved in this Decision: $38,358,314.

Earliest Charge Effective Date: January 1, 2001.

Estimated Charge Expiration Date: July 1, 2028.

Class of Air Carriers not Required to Collect PFC's: (1) Charter operators that do not enplane or deplane passengers at the Oklaloosa Regional Airport's (VPS) main terminal; (2) charter operators that enplane less than 500 per year at VPS.

Determination: Approved. Based on information contained in the public agency's application, the FAA has determined that each approved class accounts for less than 1 percent of the total annual enplanements at VPS.

Brief Description of Projects Approved for Collection and Use:

Terminal building renovation and expansion.

Terminal aircraft parking apron expansion.

Widening of existing taxiway D-1.

Construct parallel taxiway D-2.

Expansion of terminal access roadway.

PFC program formulation and administrative costs.

Decision Date: October 5, 2000.

FOR FURTHER INFORMATION CONTACT: Bud Jackman, Orlando Airports District Office, (407) 812-6331, ext. 22.

Public Agency: County of Mercer/Department of Transportation and Infrastructure, West Trenton, New Jersey.

Application Number: 00-01-I-00-TTN.

Application Type: Impose a PFC.

PFC Level: $3.00.

Total PFC Revenue Approved in this Decision: $15,000,000.

Earliest Charge Effective Date: January 1, 2001.

Estimated Charge Expiration Date: June 1, 2042.

Class of Air Carriers not Required to Collect PFC's: Air taxi commercial operators filing FAA Form 1800-31.

Determination: Approved. Based on information contained in the public agency's application, the FAA has determined that the approved class accounts for less than 1 percent of the total annual enplanements at Trenton—Mercer Airport.

Brief Description of Projects Approved for Collection:

Passenger terminal building and frontage road.

Apron.

Access road.

Non-revenue parking.

Decision Date: October 12, 2000.

FOR FURTHER INFORMATION CONTACT: Dan Vornea, New York Airports District Office, (516) 227-3812.

Public Agency: County of San Luis Obispo, San Luis Obispo, California.

Application Number: 0-06-U-00-SBP.

Application Type: Use PFC revenue.

MPRC Level: $3.00.

Total PFC Revenue to be Used in this Decision: $6,820,830.

Charge Effective Date: July 1, 1997.

Estimated Charge Expiration Date: July 1, 2015.

Class of Air Carriers not Required to Collect PFC's: No change from previous decision.

Brief Description of Project Approved for use: Existing and future terminal development and construction.

Decision Date: October 13, 2000.

FOR FURTHER INFORMATION CONTACT: Marlys Vandervelde, San Francisco Airports District Office, (650) 876-3806.

Public Agency: City of Colorado. Springs, Colorado.

Application Number: 00-06--C-0-COS.

Application Type: Impose and use a PFC.

PFC Level: $3.00.

Total PFC Revenue Approved in this Decision: $6,764,710.

Estimated Charge Expiration Date: April 1, 2003.

Earliest Charge Effective Date: January 1, 2001.

Class of Air Carriers not Required to Collect PFC's: None.

Brief Description of Projects Approved for Collection and Use:

Sand Creek improvements.

Rehabilitate runway 17R/35L.

Complete taxiway H.

East unit connector.

Brief Description of Disapproved Project: Construct ground service equipment apron on east side of the east terminal unit.

Determination: Disapproved. The FAA has determined that this project is not AIP eligible, in accordance with paragraph 567(d) of FAA Order 5100.38A, AIP Handbook (October 24, 1989). Therefore, this project does not meet the requirements of § 158.15(b).

Decision Date: October 17, 2000.

FOR FURTHER INFORMATION CONTACT: Christopher J. Schaffer, Denver Airports District Office, (303) 342-1258.

Public Agency: The Ports of Chelan and Douglas, Wenatchee, Washington.

Application Number: 00-03-C-00-EAT.

Application Type: Impose and use a PFC.

PFC Level: $3.00.

Total PFC Revenue Approved in this Decision: $240,687.

Earliest Charge Effective Date: February 1, 2001.

Estimated Charge Expiration Date: October 1, 2002.

Class of Air Carriers not Required to Collect PFC'S: None.

Brief Description of Projects Approved for Collection and Use:

Land acquisition—Koether property.

Pavement overlay—apron and tie-down area.

Taxiway overlay.

Vacuum sweeper truck.

Construct taxiway F, taxiway F-2, and guidance signage.

Master plan update.

Acquire snow removal equipment; acquire aircraft rescue and firefighting vehicle.

Acquire land, parcels F-4 and F-5.

Decision Date: October 20, 2000.

FOR FURTHER INFORMATION CONTACT: Suzanne Lee-Pang, Seattle Airports District Office, (425) 227-2654.

Public Agency: State of Connecticut, Department of Transportation, Bureau of Aviation and Ports, Windsor Locks, Connecticut.

Application Number: 00-06-U-00-SBP.

Application Type: Use PFC revenue.

PFC Level: $3.00.

Total PFC Revenue to be Used in this Decision: $6,257,923.

Charge Effective Date: February 1, 1999.

Charge Expiration Date: November 1, 1999.

Class of Air Carriers not Required to Collect PFC'S: No change from previous decision.

Brief Description of Porject Approved for Use: Construction of airport snow equipment storage and maintenance building.

Decision Date: October 26, 2000.

FOR FURTHER INFORMATION CONTACT: Priscilla A. Scott, New England Region Airports Division, (781) 238-7614.

Public Agency: Fort Dodge Airport Commission, Fort Dodge, Iowa.

Application Number: 00-02-C-00-FOD.

Application Type: Impose and use a PFC.

PFC Level: $3.00.

Total PFC Revenue Approved in this Decision: $18,896.

Earlist Charge Effective Date: April 1, 2002.

Estimated Charge Expiration Date: November 1, 2002.

Class of Air Carriers not Required to Collect PFC's: None.

Brief Description of Projects Approved for Collection and Use:

Runway 6/24 grooving and marking.

Update airport master plan.

Decision Date: October 27, 2000.

FOR FURTHER INFORMATION CONTACT: Mark Schenkelberg, Central Region Airports Division, (816) 329-2645.

Amendments to PFC Approvals

Amendment No., city, state | Amendment approved date | Original approved net PFC revenue | Amended approved net PFC revenue | Original estimated charge exp. date | Amended estimated charge exp. date
98-01-C-01-HRL, Harlingen, TX | 08/14/00 | $4,024,979 | $4,166,654 | 10/01/01 | 01/01/02
97-06-C-01-PLN, Pellston, MI | 10/04/00 | $52,000 | 36,894 | 07/01/02 | 06/01/02
96-02-C-01-HDN, Hayden, CO | 10/17/00 | 685,544 | 599,368 | 09/01/98 | 09/01/98
95-01-I-02-RIW, Riverton, WY* | 10/18/00 | 371,485 | 1,055,040 | 12/01/04 | 10/01/23
98-02-U-01-RIW, Riverton, WY* | 10/18/00 | NA | NA | 12/01/04 | 10/01/23
94-01-C-06-CVG, Covington, KY | 10/23/00 | 32,718,000 | 33,305,000 | 11/01/95 | 05/01/96
95-02-C-03-CVG, Covington, KY | 10/23/00 | 80,752,000 | 76,259,000 | 05/01/99 | 12/01/98
98-03-C-03-CVG, Covington, KY | 10/23/00 | 22,005,000 | 23,146,000 | 09/01/99 | 08/01/99
98-04-C-03-CVG, Covington, KY | 10/23/00 | 33,233,000 | 32,037,000 | 03/01/00 | 07/01/00
99-05-C-01-CVG, Covington, KY | 10/23/00 | 15,050,000 | 14,325,000 | 08/10/00 | 08/01/00
92-01-C-01-DEN, Denver, CO* | 10/30/00 | 2,330,743,321 | 3,137,099,200 | 12/01/04 | 10/01/23
Note: The amendments denoted by an asterisk (*) include a change to the PFC level charged from $3.00 per enplaned passenger to $4.50 per enplaned passsenger, effective April 1, 2001.

Issued in Washington, DC, on November 20, 2000.
Eric Gabler,
Manager, Passenger Facility Charge Branch.

[FR Doc. 00-30252 Filed 11-27-00; 8:45 am]

BILLING CODE 4910-13-M